DEPARTMENT OF TRANSPORTATION

Federal Aviation Administration

14 CFR Part 39

[Docket No. 2003-SW-39-AD; Amendment 39-13839; AD 2004-22-11]

RIN 2120-AA64

Airworthiness Directives; Eurocopter Deutschland GmbH Model EC135 P1, P2, T1, and T2 Helicopters

AGENCY: Federal Aviation Administration, DOT.

ACTION: Final rule.

SUMMARY: This amendment supersedes an existing airworthiness directive (AD) for Eurocopter Deutschland GmbH (Eurocopter) Model EC135 P1, P2, T1, and T2 helicopters. That AD currently requires adding the AD or a statement to the Rotorcraft Flight Manual (RFM) informing the pilot to reduce power and land as soon as practicable if a thump-like sound followed by an unusual vibration occurs during flight. That AD also requires visually inspecting the main rotor drive torque strut assembly (strut) for a crack or a break, recording the inspections in the historical or equivalent record, re-marking and relocating the strut, as appropriate, and replacing any unairworthy strut with an airworthy strut. Also, that AD establishes life limits for certain struts and revises the life limit for other struts. This amendment requires the same actions as the existing AD except that it changes the visual inspection from a one-time inspection to daily inspections; reduces the life limit for aluminum struts; and eliminates the once-only transfer and remarking of certain struts. This amendment is prompted by an incident in which a pilot felt an in-flight increase in vibration and subsequent discovery of a failed strut. The actions specified by this AD are intended to prevent failure of a strut and subsequent loss of control of the helicopter.

DATES: Effective December 7, 2004.

The incorporation by reference of certain publications listed in the regulations is approved by the Director of the Federal Register as of December 7, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: A proposal to amend 14 CFR part 39 by superseding AD 2003-20-11, Amendment 39-13329 (68 FR 58581, October 10, 2003), for the specified Eurocopter model helicopters was published in the Federal Register on June 2, 2004 (69 FR 31051). The action proposed to require adding the AD or a statement to the RFM informing the pilot to reduce power and land as soon as practicable if a thump-like sound followed by unusual vibration occurs during flight; visually inspecting the strut for a crack or a break before the first flight of each day; replacing any unairworthy strut with an airworthy strut; replacing all aluminum struts with titanium struts on or before accumulating 500 hours time-in service (TIS) or no later than December 31, 2004, whichever occurs first; installing the struts in pairs; and canceling the once-only transfer and remarking of certain struts.

The Luftfahrt-Bundesamt (LBA), the airworthiness authority for the Federal Republic of Germany, notified the FAA that an unsafe condition may exist on Eurocopter Model EC135 P1, P2, T1, and T2 helicopters. The LBA advises that the holders of affected aircraft registered in the Federal Republic of Germany must carry out the inspection for a crack, marking, replacement, and reduction of life limit of struts in accordance with the manufacturer's alert service bulletin.

Eurocopter has issued Alert Service Bulletin EC135-63A-002, Revision 4, dated July 7, 2003 (ASB), concerning reduction in life limit for the strut, and visual inspections of the strut and emergency stop. The ASB contains errors—in paragraph 1.A., the abbreviation “S/N” should be “P/N” and in paragraphs 1.C., 1.E.(1), and 1.E.(2), it incorrectly states that the ASB is Revision 3 rather than Revision 4. The LBA classified this ASB as mandatory and issued AD No. 2001-107/3, dated August 21, 2003, to ensure the continued airworthiness of these helicopters in the Federal Republic of Germany.

These helicopter models are manufactured in Germany and are type certificated for operation in the United States under the provisions of 14 CFR 21.29 and the applicable bilateral agreement. Pursuant to the applicable bilateral agreement, the LBA has kept the FAA informed of the situation described above. The FAA has examined the findings of the LBA, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed with only a minor editorial change. This change will neither increase the economic burden on any operator nor increase the scope of the AD.

The FAA estimates that this AD will affect 50 helicopters of U.S. registry. It will take approximately 92.25 work hours per helicopter to accomplish the inspections and parts replacement at an average labor rate of $65 per work hour. Required parts will cost approximately $7,296 per helicopter. Based on these figures, we estimate the total cost impact of this AD on U.S. operators to be $664,612 to replace the aluminum struts on the entire fleet.

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13329 (68 FR 58581, October 10, 2003), and by adding a new airworthiness directive (AD), Amendment 39-13839, to read as follows:

2004-22-11 Eurocopter Deutschland GmbH: Amendment 39-13839. Docket No. 2003-SW-39-AD. Supersedes AD 2003-20-11, Amendment 39-13329, Docket No. 2003-SW-08-AD.

Applicability: Model EC135 P1, P2, T1, and T2 helicopters, with main rotor drive aluminum torque strut assembly (strut), part number (P/N) L633M1001 103 or L633M1001 105, installed, certificated in any category.

Compliance: Required as indicated, unless accomplished previously.

To prevent failure of the strut and subsequent loss of control of the helicopter, do the following:

(a) Before further flight, insert a copy of this AD or insert a statement into the Emergency Procedures Section of the Rotorcraft Flight Manual (RFM) to inform the pilot to reduce power and land as soon as practicable if a thump-like sound followed by an unusual vibration occurs during flight.

(b) Before the first flight of each day, using a light and mirror, inspect each aluminum strut for a crack or a break by following the Accomplishment Instructions, paragraph 3.B. of Eurocopter Alert Service Bulletin EC135-63A-002, Revision 4, dated July 7, 2003 (ASB). Replace any cracked or broken strut with a new titanium strut, P/N L633M1001 104, before further flight.

(c) Within the next 100 hours time-in-service (TIS), for each aluminum strut with 400 or more hours TIS, replace each aluminum strut with a titanium strut, P/N L633M1001 104.

(d) This AD revises the Airworthiness Limitations section of the maintenance manual by reducing the retirement life of each aluminum strut, P/N L633M1001 103 and L633M1001 105, to 500 total hours TIS or retiring them no later than December 31, 2004, whichever comes first.

(e) The aluminum struts must be replaced with titanium struts in pairs and at the same time. Installing one aluminum strut and one titanium strut is not authorized. After installing titanium struts, recalculate the weight and balance using 0.356kg as the weight and 1498.76kgmm as the moment for both titanium struts.

Note 1: The once-only transferring and remarking of certain aluminum struts provided in the superseded AD are no longer authorized.

(f) Replacing aluminum struts, P/N L633M1001 103 and L633M1001 105, with titanium struts, P/N L633M1001 104, constitutes terminating action for the requirements of this AD. Titanium struts have no life limit.

(g) To request a different method of compliance or a different compliance time for this AD, follow the procedures in 14 CFR 39.19. Contact the Safety Management Group for information about previously approved alternative methods of compliance.

(h) The inspections shall be done in accordance with Eurocopter Alert Service Bulletin EC135-63A-002, Revision 4, dated July 7, 2003. The Director of the Federal Register approved the incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(i) This amendment becomes effective on December 7, 2004.

Note 2: The subject of this AD is addressed in Luftfahrt-Bundesamt (Federal Republic of Germany) AD 2001-107/3, dated August 21, 2003.

Issued in Fort Worth, Texas, on October 22, 2004.
David A. Downey,
Manager, Rotorcraft Directorate, Aircraft Certification Service.

[FR Doc. 04-24226 Filed 11-1-04; 8:45 am]

BILLING CODE 4910-13-P